DEPARTMENT OF THE INTERIOR

Bureau of Land Management

[LLCOS02000; L10200000.EE0000]

Notice of Intent To Amend the San Juan/San Miguel Resource Management Plan and Prepare the Beaver Meadows-Sauls Creek Travel Management Plan

AGENCY: Bureau of Land Management, Interior.

ACTION: Notice of Intent

SUMMARY: The Bureau of Land Management (BLM) intends to amend the San Juan/San Miguel Resource Management Plan (RMP) to limit Off-Highway Vehicle (OHV) use to designated roads and motorized trails on lands within the Beaver Meadows-Sauls Creek Travel Management Landscape. The Landscape project analysis area encompasses approximately 797 acres of BLM lands and approximately 54,397 acres of Forest Service lands on the Columbine Field Office/Ranger District in the vicinity of Bayfield, Colorado. Both agencies will conduct a joint Environmental Assessment (EA) which will also determine designated motorized routes within the landscape in addition to the San Juan/San Miguel RMP amendment.

DATES: Initial scoping has been conducted as described below in SUPPLEMENTARY INFORMATION. Additional scoping comments will be accepted through April 24, 2009 if they relate to the scope of issues regarding the proposal to amend the San Juan/San Miguel RMP for the 797-acre BLM parcel, and if the issues have not already been identified below. An additional 30-day public comment period will be announced with the release of a Pre-Decisional EA, and will be advertised in the local media and San Juan Public Lands Center Web site at http://www.fs.fed.us/r2/sanjuan/projects/projects.shtml. This is anticipated to occur in the spring of 2009.

ADDRESSES: Comments regarding the proposal to amend the San Juan/San Miguel RMP for the BLM parcel should be sent to Nancy Berry, Recreation Forester, Columbine Field Office, P.O. Box 439, Bayfield, CO 81122 or nberry@fs.fed.us.

FOR FURTHER INFORMATION CONTACT: Nancy Berry at the above address or e-mail, telephone number 970-375-3304.

SUPPLEMENTARY INFORMATION: The BLM recognizes the use of motorized and non-motorized vehicles as acceptable uses of the public lands. In response to Presidential Executive Orders 11644 and 11989, and in accordance with the BLM National Strategy for OHV Use on Public Lands, and 43 CFR 8342, this EA proposes to amend the San Juan/San Miguel RMP to limit motorized use to designated routes and will designate routes within the landscape. This EA analysis is being conducted jointly by the BLM and the Forest Service under authority as a Service First office.

This notice is required under BLM regulations for the proposed amendment of the San Juan/San Miguel RMP which would change the travel management designation for 797 acres of BLM land from “open” to “limited.” This notice is not required for the project-level route designations on either BLM or Forest Service lands. For this reason, this notice is seeking scoping comments only as they relate to the proposal to amend the San Juan/San Miguel RMP.

Initial scoping was conducted through direct mailings, public meetings, public field trips, and newspaper announcements during the fall of 2008. Scoping replies resulted in the identification of a scope of issues to be analyzed in the EA. These issues are:

1. Impacts to Resources, including erosion, noxious weeds, wildlife, air quality, roadless areas;

2. Impacts to social niches, including noise, safety, providing for motorized and non-motorized opportunities, and requests for certain specific routes;

3. Impacts to adjacent residents, including Forest Lakes, Deer Valley, and Pine Springs Ranch subdivisions.

Other issues are not to be included in the analysis because they were determined to be outside the scope of the proposed action; already decided by law, regulation, plan, or higher level decision; irrelevant to the decision to be made; opinion, conjectural, or not supported by factual evidence; or purely supportive of the proposed action.

These issues led to the development of four alternatives that will be analyzed in the EA: Alternative 1—No Action—existing travel management designation would remain in place; Alternative 2—cross-country motorized travel would no longer be allowed and all motorized travel would be restricted to existing open system roads and trails; Alternative 3—would provide motorized opportunities on designated roads and trails utilizing some closed roads and some user created routes, in addition to the existing open roads and trails in Alternative 2, while protecting the resources from impacts; Alternative 4—would be similar to Alternative 3, with additional miles of designated motorized trails. These alternatives will be described in detail when the Pre-Decisional EA is released.

Dated: March 20, 2009.
Matthew Janowiak,
Acting Field Office Manager.

[FR Doc. E9-6636 Filed 3-24-09; 8:45 am]

BILLING CODE 4310-JB-P